NATIONAL AERONAUTICS AND SPACE ADMINISTRATION

[Notice 01-052]

NASA Advisory Council, Space Flight Advisory Committee (SFAC); Meeting

AGENCY: National Aeronautics and Space Administration.

ACTION: Notice of meeting.

SUMMARY: In accordance with the Federal Advisory Committee Act, Pub. L. 92-463, as amended, the National Aeronautics and Space Administration announces a meeting of the NASA Advisory Council, Space Flight Advisory Committee.

DATES: Tuesday, May 1, 2001 from 8 a.m. until 4:30 p.m. and on Wednesday, May 2, 2001 from 1 p.m. until 3 p.m.

ADDRESSES: National Aeronautics and Space Administration, 300 E Street, SW., Room MIC 7, Washington, DC 20546.

FOR FURTHER INFORMATION CONTACT: Ms. Susan Y. Edgington(Stacey), Code M, National Aeronautics and Space Administration, Washington, DC 20546, 202/358-4519.

SUPPLEMENTARY INFORMATION: The meeting will be closed to the public on Wednesday, May 2, from 8 a.m. until 1 p.m. in accordance with 5 U.S.C. 552b(c)9(B), to hear briefings on the FY 2003 performance metrics. Except for the closed session, the meeting will be open to the public up to seating capacity of the room. The agenda for the meeting is as follows:

—Overview, status of the Office of Space Flight programs.

—International Space Station status.

—Space Shuttle Program status.

—International Space Station status.

—Space Shuttle Program status.

—Shuttle Upgrades Program review.

It is imperative that the meeting be held on this date to accommodate the scheduling priorities of the key participants. Visitors will be requested to sign a visitor's register.

Dated: April 19, 2001.
Beth M. McCormick,
Advisory Committee Management Officer, National Aeronautics and Space Administration.

[FR Doc. 01-10170 Filed 4-24-01; 8:45 am]

BILLING CODE 7510-01-P